DEPARTMENT OF COMMERCE

Patent and Trademark Office

Admittance to Practice and Roster of Registered Patent Attorneys and Agents Admitted to Practice Before the United States Patent and Trademark Office (USPTO)

ACTION: Proposed collection; comment request.

SUMMARY: The United States Patent and Trademark Office (USPTO), as part of its continuing effort to reduce paperwork and respondent burden, invites the general public and other Federal agencies to take this opportunity to comment on the continuing and proposed information collection, as required by the Paperwork Reduction Act of 1995, Public Law 104-13 (44 U.S.C. 3506(c)(2)(A)).

DATES: Written comments must be submitted on or before November 5, 2002.

ADDRESSES: Direct all written comments to Susan K. Brown, Records Officer, Office of Data Management, Data Administration Division, USPTO, Suite 310, 2231 Crystal Drive, Washington, DC 20231; by telephone at 703-308-7400; by e-mail at susan.brown@uspto.gov; or by facsimile at 703-308-7407.

FOR FURTHER INFORMATION CONTACT: Requests for additional information should be directed to the attention of Christine Nucker, United States Patent and Trademark Office, Box OED, Washington, DC 20231, by telephone at 703-306-4097; by e-mail at oed@uspto.gov; or by facsimile at 703-306-4134.

SUPPLEMENTARY INFORMATION:

I. Abstract

This collection of information is required by 35 U.S.C. 2(b)(2)(D), which permits the United States Patent and Trademark Office (USPTO) to establish regulations governing the recognition and conduct of agents, attorneys or other persons representing applicants or other parties before the USPTO. This statute also permits the USPTO to require information from applicants which shows that they are of good moral character and reputation and have the necessary qualifications to assist applicants with the patent process and to represent them before the USPTO.

The USPTO administers the statute through 37 CFR 10.5 to 10.19. These rules address the requirements to apply for the examination for registration and to demonstrate eligibility to be a registered attorney or agent before the USPTO. The Office of Enrollment and Discipline (OED) collects information to determine the qualifications of individuals entitled to represent applicants before the USPTO in the preparation and prosecution of applications for a patent. The OED also collects information to administer and maintain the roster of attorneys and agents registered to practice before the USPTO. Information concerning registered attorneys and agents is published by the OED in a public roster that can be accessed through the USPTO Web site.

There are four forms associated with this information collection. These forms are Form PTO-158 (Application for Registration to Practice Before the United States Patent and Trademark Office), Form PTO-158A (Application for Registration to Practice before the United States Patent and Trademark Office Under 37 CFR 10.6(c) By a Foreign Resident), Form PTO/275 (Undertaking Under 37 CFR 10.10(b)), and Form PTO-107A (Data Sheet—Register of Patent Attorneys and Agents). The applicant uses Form PTO-158 to apply for the examination. Forms PTO-158, PTO-158A, and PTO/275 are used as applicable for applicants seeking registration. Form PTO-107A is used by the applicant to supply information for the register.

Form PTO-1209 Oath or Affirmation is being added into this collection. The USPTO has previously been aware of this form but has reconsidered its inclusion into this collection due to the fact that it includes a notary public requirement which involves record keeping costs.

A requirement that was previously overlooked is being added to this information collection in the way of a petition that may be filed under 37 CFR 10.170 requesting in writing that a requirement of the regulations, which is not a requirement of the statutes, be suspended or waived by the Commissioner in an extraordinary situation, when justice requires. There is no form associated with this requirement.

A written request for reconsideration for individuals who receive a disapproval notice and desire further review or consideration, that was previously overlooked, is being added into this collection. The final decision by the Director of OED may be appealed to the USPTO Director. There is no form associated with this requirement.

Also being added to this collection is a petition for reinstatement of an individual who has resigned or who has been suspended or excluded, so long as the individual meets the requirements of 37 CFR 10.7, including taking and passing an examination and paying all costs and expenses as may be appropriate. There is no form associated with this requirement.

The information supplied to the USPTO by an applicant seeking to apply for the examination for registration and/or to request that they be included on the Register of Patent Attorneys and Agents is used by the USPTO to review applicants for the examination, and to determine whether an applicant may be added to, or an existing practitioner may remain on the Register of Patent Attorneys and Agents.

II. Method of collection

By mail to the USPTO when the individual desires to participate in the information collection.

III. Data

OMB Number: 0651-0012.

Form Number(s): PTO-158, Form PTO-158A, PTO/275, Form PTO-107A and Form PTO-1209. There are no forms associated with the Petition for Waiver of Regulations, the Written Request for Reconsideration of Disapproval Notice of Application, and the Petition for Reinstatement to Practice.

Type of Review: Extension of a currently approved collection.

Affected Public: Individuals or households; business or other for-profit; the Federal Government; and state, local or tribal governments.

Estimated Number of Respondents: 19,649 responses per year.

Estimated Time Per Response: The USPTO estimates that it will take the public approximately 30 minutes to complete either an application for registration to practice before the USPTO or an application for a foreign resident to practice before the USPTO and, depending upon the complexity of the situation, to gather, prepare, and submit the application. It is estimated to take 20 minutes to complete undertakings under 37 CFR 10.10(b). It is estimated to take 10 minutes to complete data sheets for the register of patent attorneys and agents. It is estimated to take 5 minutes to complete the oath or affirmation, 45 minutes to complete the petition for waiver of regulations, 90 minutes to complete the written request for reconsideration of disapproval notice of application, and 120 minutes to complete the petition for reinstatement to practice.

Estimated Total Annual Respondent Burden Hours: 5,436hours per year.

Estimated Total Annual Respondent Cost Burden: $1,369,872.00. Using the professional hourly rate of $252 for associate attorneys in private firms, the USPTO estimates $1,369,872 per year for salary costs associated with respondents.

Item | Estimated time for response (in minutes) | Estimated annual responses | Estimated annual burden hours
Application for Registration to Practice Before the United States Patent and Trademark Office | 30 | 6,904 | 3,452
Application for Registration to Practice Before the United States Patent and Trademark Office Under 37 CFR 10.6(c) by a Foreign Resident | 30 | 100 | 50
Undertaking under 37 CFR 10.10(b) | 20 | 264 | 87
Data Sheet—Register of Patent Attorneys and Agents | 10 | 8,797 | 1,495
Oath or Affirmation | 5 | 3,500 | 280
Petition for Waiver of Regulations (37 CFR 10.170) | 45 | 75 | 56
Written Request for Reconsideration of Disapproval Notice of Application | 90 | 5 | 8
Petition for Reinstatement to Practice | 120 | 4 | 8
Total |  | 19,649 | 5,436

Estimated Total Annual Nonhour Respondent Cost Burden: $2,569,838.00. There are no capital start-up or maintenance costs associated with this information collection. There are, however, non-hour costs due to record keeping requirements, filing fees, and mailing costs.

There are record keeping costs for this collection as a result of the Oath which includes a notary public requirement. The average fee for having a having a document notarized is $2.00. The USPTO estimates that it will receive 3,500 responses to this information collection per year as a result of this notary requirement, for a total cost of $7,000 per year.

There are filing fees associated with this collection which are also part of the nonhour cost burden. The application fees are broken out to include the fact that the one application form can cover any one of five different categories: As applicable when used for examination application, examination and registration fees; as applicable when used for examination application and examination fees only; as applicable when used for registration fees; as applicable when used for reinstatement fees; and as applicable when used for examination application only. Following is a chart listing the filing fees and the nonhour cost burden. The total annual nonhour cost burden associated with filing fees is $2,553,210.00.

Item | Responses | Filing fee ($) | Total non-hour cost burden (a) × (b)
| (a) | (b) | (c)
Application for Registration to Practice Before the United States Patent and Trademark Office (as applicable when used for examination application, examination, and registration fees) | 3,200 | $450.00 | $1,440,000.00
Application for Registration to Practice Before the United States Patent and Trademark Office (as applicable when used for examination application, and examination fees only) | 3,040 | 350.00 | 1,064,000.00
Application for Registration to Practice Before the United States Patent and Trademark Office (as applicable when used for registration fees) | 200 | 100.00 | 20,000.00
Application for Registration to Practice Before the United States Patent and Trademark Office (as applicable when used for reinstatement fees) | 304 | 40.00 | 12,160.00
Application for Registration to Practice Before the United States Patent and Trademark Office (as applicable when used for examination application fees only) | 160 | 40.00 | 6,400.00
Application for Registration to Practice Before the United States Patent and Trademark Office Under 37 CFR 10.6(c) by a Foreign Resident | 100 | 100.00 | 10,000.00
Undertaking under 37 CFR 10.10(b) | 264 | 0 | 0
Data Sheet—Register of Patent Attorneys and Agents | 8,797 | 0 | 0
Oath or Affirmation | 3,500 | 0 | 0
Petition for Waiver of Regulations (37 CFR 10.170) | 75 | 0 | 0
Written Request for Reconsideration of Disapproval Notice of Application | 5 | 130.00 | 650.00
Petition for Reinstatement to Practice (included above with application reinstatement fees) | 4 | 0 | 0
Total | 19,649 |  | 2,553,210.00

There are mailing costs that also need to be added into the total annual nonhour cost burden for this collection. The General Requirements Bulletin for Admission to the Examination for Registration to Practice in Patent Cases before the USPTO states that all business with the USPTO should be transacted in writing. Personal attendance is unnecessary. The actions of the OED will be based exclusively on the written record in the USPTO (37 CFR 1.2). All documents may be submitted to the USPTO by first-class mail through the United States Postal Service. All correspondence should include a certificate of mailing for each piece of correspondence enclosed, stating the date of deposit or transmission to the USPTO. The USPTO estimates that the average first-class postage cost is 49 cents. Therefore, the USPTO estimates that it will receive 19,649 responses to this information collection per year, for a total cost of $9,628 per year (19,649 × $0.49 = $9,628) in postage fees.

The total annual nonhour cost burden is $2,569,838.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: August 30, 2002.
Susan K. Brown,
Records Officer, USPTO, Office of Data Management, Data Administration Division.

[FR Doc. 02-22677 Filed 9-5-02; 8:45 am]

BILLING CODE 3510-16-P